NATIONAL SCIENCE FOUNDATION

Proposal Review Panel for Chemistry; Notice of Meeting

In accordance with the Federal Advisory Committee Act (Pub. L. 92-463, as amended), the National Science Foundation announces the following meeting:

Name: Centers for Chemical Innovation (CCI) Cyber Review Reverse Site Visit 2012 Site Visit (1191).

Date and Time: Thursday, February 9, 2012 (8:30 a.m.-6 p.m.); Friday, February 10, 2012 (8:30 a.m.-5 p.m.) .

Place: ACCESS Grid Facility, Arlington, VA.

Type of Meeting: Partially-Open.

Contact Person: Katharine Covert, Program Director, National Science Foundation, 4201 Wilson Blvd., Arlington, VA, (703) 292-4950.

Purpose of Meeting: To provide advice and recommendations concerning center proposals submitted to NSF for financial support.

Agenda:

Thursday, February 9, 2012

8:30 a.m.-9:15 a.m. Closed—Executive Session.

9:30 a.m.-11:45 a.m. Open—Center for Quantum Information and Computation for Chemistry Presentations.

11:45 a.m.-1 p.m. Closed—Executive Session, review and drafting report.

1:15 p.m.-3:30 p.m. Open—Center for Aerosol Impacts on Climate and Environment Presentation.

3:30 p.m.-6 p.m. Closed—Executive Session, review and drafting report.

Friday, February 10, 2012

8:30 a.m.-9 a.m. Closed—Executive Session.

9 a.m.-11:15 a.m. Open—Center for Nanostructured Electronic Materials Presentation.

11:30 p.m.-5 p.m. Closed—To prepare and finalize the site visit report.

Reason for Late Notice: The late notice is due to administrative complications and the necessity to proceed with the review of proposals.

Reason for Closing: The meeting is closed to the public because the Site Visitors will be reviewing proposal actions that will include privileged intellectual property and personal information concerning individuals associated with the proposals. These matters that are exempt under 5 U.S.C. 552b(c)(4) and (6) of the Government Sunshine Act.

Dated: January 31, 2012.
Susanne Bolton,
Committee Management Officer.

[FR Doc. 2012-2495 Filed 2-3-12; 8:45 am]

BILLING CODE 7555-01-P